DEPARTMENT OF TRANSPORTATION

National Highway Traffic Safety Administration

[Docket Number NHTSA-2018-0034]

Extension of Comment Period on a Previously Approved Information Collection

AGENCY: National Highway Traffic Safety Administration (NHTSA), Department of Transportation (DOT).

ACTION: Notice and request for comments; Extension of comment period.

SUMMARY: NHTSA is extending the comment period for the proposed collection of information titled “State Data Transfer for Vehicle Crash Data.” NHTSA published a 60-day notice requesting comment on this proposed collection on September 14, 2018.

DATES: The comment period for this collection is extended: written comments must be received on or before September 14, 2018.

ADDRESSES: You may submit comments identified by Docket No. NHTSA-2018-0034 through one of the following methods:

• Federal eRulemaking Portal: http://www.regulations.gov. Follow the online instructions for submitting comments.

• Fax: 1-202-493-2251

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Michael Frenchik, Office of Data Acquisition, Safety Systems Management Division (NSA-0130), Room W53-303, 1200 New Jersey Avenue SE, Washington, DC 20590. Mr. Frenchik's telephone number is (202) 366-0641. Please identify the relevant collection of information by referring to its OMB Control Number.

SUPPLEMENTARY INFORMATION: On May 30, 2018, NHTSA published a 60-day Paperwork Reduction Act notice requesting commenton the proposed information collection titled “State Data Transfer for Vehicle Crash Information.” (83 FR 25112).

In the interest of allowing for more stakeholder feedback, NHTSA is extending the comment period for this proposed collection by six weeks: Written comments must be received on or before September 14, 2018.

Authority: The Paperwork Reduction Act of 1995; 44 U.S.C. chapter 35, as amended; 49 CFR 1.49; and DOT Order 1351.29.

Terry T. Shelton,
Associate Administrator, National Center for Statistics and Analysis.

[FR Doc. 2018-15707 Filed 7-20-18; 8:45 am]

BILLING CODE 4910-59-P